Presidential Determination No. 2005-41 of September 29, 2005

Transfer of Funds from FY 2004 and 2005 Foreign Assistance Act and Arms Export Control Act Accounts to the International Narcotics Control and Law Enforcement Account to Support the G-8 Women's Justice and Empowerment Initiative

Memorandum for the Secretary of State

Pursuant to the authority vested in me by the Constitution and laws of the United States, including section 610 of the Foreign Assistance Act of 1961, as amended (the “Act”), I hereby determine it necessary for the purposes of that Act that $5 million in FY 2004 funds made available under the Support for East European Democracy Act ($1 million) and FY 2005 funds made available under chapter 9 of part II of the Act ($1.2 million) and under section 23 of the Arms Export Control Act ($2.8 million) be transferred to, and consolidated with, funds made available under chapter 8 of part I of the Act, and such funds are hereby so transferred and consolidated.

You are hereby authorized and directed to report this determination to the Congress and to publish it in the Federal Register.

B

THE WHITE HOUSE,

Washington, September 29, 2005.

[FR Doc. 05-20856

Filed 10-14-05; 8:45 am]

Billing code 4710-10-P